DEPARTMENT OF AGRICULTURE

Performance Review Board Membership

AGENCY: Office of Human Resources Management, Departmental Administration.

ACTION: Notice of Performance Review Board appointments.

SUMMARY: This notice announces the members of the Department of Agriculture's (USDA) Senior Executive Service (SES) and Senior Level (SL) and Scientific or Professional (ST) Performance Review Boards. Agriculture has two PRBs with representatives from each USDA Mission Area. The PRB provides a written recommendation to the Secretary for final approval of each executive's performance rating, performance-based pay adjustment, and performance award. The PRBs are advised by the Office of Human Resources Management, Office of General Counsel, and Office of the Assistant Secretary for Civil Rights to ensure compliance with laws and regulations.

DATES: The board membership is applicable beginning on October 18, 2024.

FOR FURTHER INFORMATION CONTACT: Anita Adkins, Chief Human Capital Officer, Office of Human Resources Management, telephone: (337) 247-1820, or Tonique Washington, Acting Director, Executive Resources Management Division, telephone: (202) 720-0027.

SUPPLEMENTARY INFORMATION: In accordance with 5 U.S.C. 4314(c)(4), the USDA PRB members are named below:

Bender, Stuart A.; Bennett, Patricia A.; Bucknall, Janet L.; Coleman, Angela V.; Crockett, John W.; Drennen, Lorna J.; Duncan, C. Natalie L.; Eichhorst, John E.; Erhan, Sevim Z.; Fantinato, Jessica; French, Christopher B.; Glendenning, Roger W.; Heath, Linda S.; Jackson, Kimberly R.; James, Rosalind R.; Lindbo, David; Manzano, Heather L.; McHugh, Tara H.; Morris, Erin; Neal Jr., Arthur L.; Nickerson, Cynthia J.; Parsons, Joseph L.; Ramirez, Lisa; Ripley, Ingrid; Shea, A. Kevin; Slupek, Mark A.; Smith, Gregory C.; Tharp, Melissa A.; Watson, Michael T.; Whitley, Daniel B.; and Williams, Duane.

Keith Wiggins,
Deputy Director Executive Resources Management Division, Office of Human Resources Management.

[FR Doc. 2024-23922 Filed 10-16-24; 8:45 am]

BILLING CODE 3410-96-P